DEPARTMENT OF ENERGY

Federal Energy Regulatory Commission

Combined Notice of Filings #1

Take notice that the Commission received the following electric corporate filings:

Docket Numbers: EC19-30-000.

Applicants: Energia Sierra Juarez 2 U.S., LLC, Energia Sierra Juarez U.S., LLC.

Description: Application for Authorization Under Section 203 of the Federal Power Act, et al. of Energia Sierra Juarez 2 U.S., LLC, et al.

Filed Date: 11/26/18.

Accession Number: 20181126-5114.

Comments Due: 5 p.m. ET 12/17/18.

Take notice that the Commission received the following electric rate filings:

Docket Numbers: ER10-1626-009.

Applicants: Tenaska Virginia Partners, L.P.

Description: Notification of Change in Status of Tenaska Virginia Partners, L.P.

Filed Date: 11/26/18.

Accession Number: 20181126-5124.

Comments Due: 5 p.m. ET 12/17/18.

Docket Numbers: ER11-3980-004; ER10-2294-005; ER11-3808-004; ER13-2103-002; ER13-2414-001; ER13-413-005; ER13-534-004; ER15-2330-001; ER16-131-001; ER17-2471-002; ER17-2472-002; ER18-301-001; ER18-664-001.

Applicants: ORNI 14 LLC, ORNI 18 LLC, ORNI 39 LLC, Mammoth One, LLC, ORNI 47 LLC, Mammoth Three LLC, ORNI 37 LLC, Heber Geothermal Company LLC, ONGP LLC, ORNI 43 LLC, Ormesa LLC, Steamboat Hills LLC, USG Oregon LLC.

Description: Notice of Change-in-Status of the Ormat Technologies, Inc. subsidiaries.

Filed Date: 11/21/18.

Accession Number: 20181121-5133.

Comments Due: 5 p.m. ET 12/12/18.

Docket Numbers: ER18-2342-001.

Applicants: GridLiance Heartland LLC.

Description: Tariff Amendment: GridLiance Heartland LLC—ER18-2342. Deficiency Filing to be effective 11/26/2018.

Filed Date: 11/26/18.

Accession Number: 20181126-5052.

Comments Due: 5 p.m. ET 12/17/18.

Docket Numbers: ER19-246-001.

Applicants: Llano Estacado Wind, LLC.

Description: Tariff Amendment: LEW MBR Tariff Addl Changes 2018.11.26 to be effective 11/1/2018.

Filed Date: 11/26/18.

Accession Number: 20181126-5093.

Comments Due: 5 p.m. ET 12/17/18.

Docket Numbers: ER19-397-000.

Applicants: Southwest Power Pool, Inc.

Description: § 205(d) Rate Filing: 1893R8 Westar Energy, Inc. NITSA NOA to be effective 11/1/2018.

Filed Date: 11/27/18.

Accession Number: 20181127-5044.

Comments Due: 5 p.m. ET 12/18/18.

Docket Numbers: ER19-398-000.

Applicants: Southwest Power Pool, Inc.

Description: § 205(d) Rate Filing: 1897R8 Westar Energy, Inc. NITSA NOA to be effective 11/1/2018.

Filed Date: 11/27/18.

Accession Number: 20181127-5059.

Comments Due: 5 p.m. ET 12/18/18.

Docket Numbers: ER19-399-000.

Applicants: Midcontinent Independent System Operator, Inc., Ameren Illinois Company.

Description: § 205(d) Rate Filing: 2018-11-27_SA 2027 Ameren-Marceline 1st Rev WDS to be effective 2/1/2019.

Filed Date: 11/27/18.

Accession Number: 20181127-5080.

Comments Due: 5 p.m. ET 12/18/18.

Docket Numbers: ER19-400-000.

Applicants: Alabama Power Company.

Description: § 205(d) Rate Filing: Jefferson County Solar LGIA Filing to be effective 11/12/2018.

Filed Date: 11/27/18.

Accession Number: 20181127-5081.

Comments Due: 5 p.m. ET 12/18/18.

Docket Numbers: ER19-401-000.

Applicants: Alabama Power Company.

Description: § 205(d) Rate Filing: Wadley Solar LGIA Filing to be effective 11/12/2018.

Filed Date: 11/27/18.

Accession Number: 20181127-5082.

Comments Due: 5 p.m. ET 12/18/18.

Docket Numbers: ER19-402-000.

Applicants: Alabama Power Company.

Description: § 205(d) Rate Filing: Sycamore Solar LGIA Filing to be effective 11/12/2018.

Filed Date: 11/27/18.

Accession Number: 20181127-5083.

Comments Due: 5 p.m. ET 12/18/18.

Docket Numbers: ER19-403-000.

Applicants: PJM Interconnection, L.L.C.

Description: § 205(d) Rate Filing: Amendment to ISA, Service Agreement No. 2013, Queue No. AC2-018 re: Assignment to be effective 4/11/2018.

Filed Date: 11/27/18.

Accession Number: 20181127-5088.

Comments Due: 5 p.m. ET 12/18/18.

Docket Numbers: ER19-404-000.

Applicants: Public Service Company of Colorado.

Description: § 205(d) Rate Filing: OATT Attachment O-SPS Depr-ADIT Filing to be effective 2/1/2019.

Filed Date: 11/27/18.

Accession Number: 20181127-5093.

Comments Due: 5 p.m. ET 12/18/18.

Docket Numbers: ER19-405-000.

Applicants: Southern California Edison Company.

Description: § 205(d) Rate Filing: City of Long Beach GIA and Distribution Service Agreement—SERRF to be effective 12/8/2018.

Filed Date: 11/27/18.

Accession Number: 20181127-5095.

Comments Due: 5 p.m. ET 12/18/18.

Take notice that the Commission received the following qualifying facility filings:

Docket Numbers: QF18-452-000.

Applicants: North American Natural Resources, Inc.

Description: Second Supplement to November 20, 2018 Refund Report of North American Natural Resources, Inc.

Filed Date: 11/26/18.

Accession Number: 20181126-5132.

Comments Due: 5 p.m. ET 12/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2018.
Nathaniel J. Davis, Sr.,
Deputy Secretary.

[FR Doc. 2018-26157 Filed 11-30-18; 8:45 am]

BILLING CODE 6717-01-P